NATIONAL SCIENCE FOUNDATION

Advisory Committee for Environmental Research and Education; Notice of Meeting

In accordance with the Federal Advisory Committee Act (Pub. Law 92-463, as amended), the National Science Foundation announces the following meeting:

Name: Advisory Committee for Environmental Research and Education (9487).

Dates: October 11, 2000; 8:30 a.m.-5:30 p.m.; October 12, 2000; 8:30 a.m.-3:30 p.m.

Place: Room 1235, National Science Foundation, 4201 Wilson Blvd, Arlington, VA.

Type of Meeting: Open.

Contact Person: Dr. Margaret Cavanaugh, Office of the Director, National Science Foundation, Suite 1205, 4201 Wilson Blvd, Arlington, Virginia 22230. Phone 703-292-8002.

Minutes: May be obtained from the contact person listed above.

Purpose of Meeting: To provide advice, recommendations, and oversight concerning support for environmental research and education.

Agenda:

October 11

Orientation for Advisory Committee members; procedures and responsibilities

Overview of present activities followed by discussion of future plans in environmental research and education

Discussion: Effective means of communication with the scientific community about NSF's environmental portfolio

October 12

Discussion: Continued discussion from October 11

Discussion: Effective means of communication with Federal agencies about NSF's environmental portfolio

Dated: September 13, 2000.
Karen J. York,
Committee Management Officer.

[FR Doc. 00-23897 Filed 9-15-00; 8:45 am]

BILLING CODE 7555-01-M